Title 3—

The President

Proclamation 8644 of March 31, 2011

National Cancer Control Month, 2011

By the President of the United States of America

A Proclamation

Over the past several decades, our Nation has made significant advances in the fight against cancer. Improvements in early detection and treatment of this disease have led to decreases in the rates of new cases and deaths, and many people who are diagnosed with cancer are living longer, with better quality of life. Despite the breadth of our progress, an estimated 1.5 million people were diagnosed with cancer last year, and more than half a million Americans lost their lives to the disease. During National Cancer Control Month, we renew our commitment to increasing awareness about cancer and reducing the burden of this devastating illness.

There are simple steps all of us can take to protect ourselves and our loved ones from cancer. Americans can help reduce their cancer risk with healthy practices such as avoiding excessive sun exposure, limiting alcohol intake, eating a balanced diet, maintaining a healthy weight, and making physical activity part of each day. Exposure to tobacco smoke, even from occasional smoking or secondhand smoke, is particularly harmful. Americans striving to quit can receive help by calling 1-800-QUIT-NOW or visiting: www.Smokefree.gov.

Screening tests can also help reduce the risk of developing certain cancers and help detect the disease early when it is often easier to treat. Under the Affordable Care Act, new health insurance plans must offer certain screening tests, including Pap tests, mammograms, and colonoscopies, at no extra cost. I encourage every man and woman to talk with a health professional about available testing and when to begin screenings. All Americans can visit www.Cancer.gov for more information about the prevention, diagnosis, and treatment of cancer.

My Administration is committed to continuing the advances made in cancer research, prevention, detection, and treatment. The Healthy People 2020 initiative, which is spearheaded by the Department of Health and Human Services, is tasked with outlining national objectives and benchmarks to measure progress toward improving the health of all Americans. The goals will provide a roadmap for better health and help focus our Nation’s attention on trends in cancer rates, mortality, and survival.

Americans of every background have been touched by cancer, either through a personal diagnosis or that of a family member or friend, and too many of us understand the terrible toll of this disease. In memory of loved ones lost to cancer, and in tribute to the survivors and those still fighting this disease, I call on all Americans to recognize what each of us can do to live longer, healthier lives and to reach for a future free from cancer.

The Congress of the United States, by joint resolution approved March 28, 1938 (52 Stat. 148; 36 U.S.C. 103), as amended, has requested the President to issue an annual proclamation declaring April as “Cancer Control Month.”

NOW, THEREFORE, I, BARACK OBAMA, President of the United States of America, do hereby proclaim April 2011 as National Cancer Control Month. I encourage citizens, Government agencies, private businesses, nonprofit organizations, and other interested groups to join in activities that will increase awareness of what Americans can do to prevent and control cancer.

IN WITNESS WHEREOF, I have hereunto set my hand this thirty-first day of March, in the year of our Lord two thousand eleven, and of the Independence of the United States of America the two hundred and thirty-fifth.

[FR Doc. 2011-8381

Filed 4-5-11; 11:15 am]

Billing code 3195-W1-P